DEPARTMENT OF COMMERCE

Patent and Trademark Office

[Docket No. 2002-C-007]

Final United States Patent and Trademark Office Information Quality Guidelines

AGENCY: Patent and Trademark Office, Commerce.

ACTION: Notice of availability.

SUMMARY: This document announces the availability of the agency's final information quality guidelines that ensure and maximize the quality, objectivity, utility, and integrity of information disseminated by the agency. These guidelines also detail the administrative mechanism developed by the USPTO to allow affected persons to seek and obtain appropriate correction of information maintained and disseminated by the agency that does not comply with the OMB or the agency guidelines. This notice of availability and these guidelines are required by section 515 of the Treasury and General Government Appropriations Act for FY 2001 (Public Law 106-554) and the OMB information quality guidelines published in the Federal Register on January 3, 2002 (67 FR 369-378); corrected on February 5, 2002 (67 FR 5365); and reprinted in their entirety February 22, 2002 (67 FR 8451-8460).

ADDRESSES: The final USPTO information quality guidelines are available on the USPTO Web site in the News & Notices section, http://www.uspto.gov/main/newsandnotices.htm.

FOR FURTHER INFORMATION CONTACT: Bruce Cox, Director, Office of Electronic Information Products, Bruce.Cox@uspto.gov (703) 306-2606; or Christopher Leithiser, Information Products Division, Chris.Leithiser@uspto.gov (703) 306-2622.

Dated: September 30, 2002.
Jon W. Dudas,
Acting Under Secretary of Commerce for Intellectual Property and Acting Director of the United States Patent and Trademark Office.

[FR Doc. 02-25475 Filed 10-4-02; 8:45 am]

BILLING CODE 3510-16-P